DEPARTMENT OF ENERGY

Federal Energy Regulatory Commission

[Docket No. EC04-82-000, et al.]

Onondaga Cogeneration Limited, et al.; Electric Rate and Corporate Filings

March 31, 2004.

The following filings have been made with the Commission. The filings are listed in ascending order within each docket classification.

1. Onondaga Cogeneration Limited Partnership and Teton Power Funding, LLC

[Docket Nos. EC04-82-000 and ER00-895-004]

Take notice that on March 25, 2004, Onondaga Cogeneration Limited Partnership (Onondaga) and Teton Power Funding, LLC (Teton) (collectively, Applicants) filed with the Commission an application pursuant to section 203 of the Federal Power Act, request for expedited treatment, and notice of change in status with respect to the transfer of indirect upstream ownership interests in Onondaga to Teton Power Holdings, LLC (Holdings), a newly-formed limited liability company to be owned by Caithness Energy, L.L.C. (Caithness) either directly or indirectly through one or more wholly-owned subsidiaries, ArcLight Energy Partners Fund I, L.P. (ArcLight Fund I), and ArcLight Energy Partners Fund II, L.P. (ArcLight Fund II). The Applicants state that, in addition, as a result of an internal corporate reorganization, an intermediate holding company wholly-owned by ArcLight Fund I and ArcLight Fund II simultaneously will be merged into Teton. Applicants have requested privileged treatment of the contents of Exhibit B and Exhibit I to the section 203 application.

Comment Date: April 14, 2004.

2. Aquila, Inc. and Aquila Long Term, Inc.

[Docket No. EC04-83-000]

Take notice that on March 26, 2004, Aquila, Inc. and Aquila Long Term, Inc. (Applicants), filed with the Commission an application pursuant to section 203 of the Federal Power Act and section 33 of the Commission's regulations for approval of the transfer of two power sales agreements to Tor Power, LLC. Applicants requests that the Commission approve the Application within thirty days of filing.

Comment Date: April 16, 2004

3. LaPaloma Generating Company LLC, LaPaloma Generating Trust Ltd., and LaPaloma Holding Company LLC

[Docket No. EC04-84-000]

Take notice that on March 26, 2004, La Paloma Generating Trust Ltd. and La Paloma Generating Company, LLC (together, the La Paloma Parties) and La Paloma Holding Company LLC filed with the Commission an application pursuant to Section 203 of the Federal Power Act for authorization to transfer certain jurisdictional facilities held by the La Paloma Parties to the lenders, interest hedge providers and investors of the La Paloma Parties. La Paloma Parties seek expedited review of the application and request confidential treatment of certain documents submitted therewith.

LaPaloma Parties states that a copy of the application was served upon the California Public Utilities Commission.

Comment Date: April 16, 2004.

4. United States Department of Energy and Western Area Power Administration

[Docket No. EF04-5041-000]

Take notice that on March 23, 2004, the Deputy Secretary of the Department of Energy, filed notification that by Western Area Power Administration, Desert Southwest Customer Service Region-Rate Order No. WAPA-112, the existing Rates Schedules DSW-SD1, DSW-RS1, DSW-FR1, DSW-EI1, DSW-SPR1, DSW-SUR1, PD-NTS1, AND INT-NTS1 for the Desert Southwest Customer Service Region network integration transmission services for the Parker-Davis Project and the Pacific Northwest-Pacific Southwest Intertie Project and ancillary services for the Western Area Lower Colorado control area were extended through March 31, 2005.

Comment Date: April 13, 2004.

5. PJM Interconnection, L.L.C.

[Docket No. ER04-676-000]

Take notice that on March 26, 2004, PJM Interconnection, L.L.C. (PJM), submitted for filing an executed construction service agreement (CSA) among PJM; Industrial Power Generating Corporation, and Monongahela Power Company, The Potomac Edison Company, and West Penn Power Company, all three doing business as Allegheny Power. PJM requests a waiver of the Commission's 60-day notice requirement to permit a March 12, 2004 effective date for the CSA.

PJM states that copies of this filing were served upon the parties to the agreements and the state regulatory commissions within the PJM region.

Comment Date: April 16, 2004.

6. NorthPoint Energy Solutions, Inc.

[Docket No. ER04-678-000]

Take notice that on March 26, 2004, NorthPoint Energy Solutions, Inc. (NorthPoint) submitted a Wholesale Cost-Based Rate Tariff (Tariff) providing for sales of capacity and energy pursuant to the Mid-Continent Energy Marketers Association Capacity and Energy Tariff, FERC Electric Tariff and the Western Systems Power Pool, Inc. Agreement. NorthPoint requests that the proposed Tariff be effective June 1, 2004.

Comment Date: April 16, 2004.

7. Tenaska Virginia Partners, L.P.

[Docket No. ER04-680-000]

Take notice that on March 26, 2004, Tenaska Virginia Partners, L.P., (Tenaska Virginia) submitted for filing, pursuant to Section 205 of the Federal Power Act (16 U.S.C. 824d), and part 35 of the Commission's regulations (18 CFR part 35), a rate schedule for reactive power to be provided initially to the Virginia Electric and Power Company d/b/a Dominion Virginia Power (VEPCO) transmission system, and upon VEPCO and Tenaska Virginia joining the PJM Interconnection, L.L.C. (PJM), to the PJM transmission system. Tenaska Virginia requests an effective date of May 1, 2004.

Comment Date: April 16, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-771 Filed 4-6-04; 8:45 am]

BILLING CODE 6717-01-P